DEPARTMENT OF VETERANS AFFAIRS

Genomic Medicine Program Advisory Committee, Notice of Meeting

The Department of Veterans Affairs (VA) gives notice under the Federal Advisory Committee Act 5, U.S.C. App. 2, that a meeting of the Genomic Medicine Program Advisory Committee (the Committee) will be held virtually on Wednesday, April 28, 2021. The meeting will begin at 11:00 a.m. EDT and adjourn at 3:00 p.m. EDT. The meeting is open to the public via Webex https://veteransaffairs.webex.com/veteransaffairs/j.php?MTID=m66dca294e13f2a5f5be16e1881d6e0c9 password: RKpTbxp*365 or by phone at call-in +14043971596, meeting code: 1993482289##.

The purpose of the Committee is to provide advice and make recommendations to the Secretary of Veterans Affairs on using genetic information to optimize medical care for Veterans and enhance the development of tests and treatments for diseases particularly relevant to Veterans.

On April 28, 2021, the Committee will receive updated briefings on various VA research programs, including the Million Veteran Program (MVP), to ascertain the program's progress in the areas of participant recruitment, data generation and storage, and data access. The Committee will also receive updates from ongoing MVP research, including new COVID-related research, the return of genetics results pilot studies, final recommendations from a subcommittee on Genomics Services within VA. Additionally, the Committee will discuss and explore potential recommendations for the next annual report.

Public comments will be received at 2:15 p.m. EDT and are limited to 5 minutes each. Individuals who speak are invited to submit a 1-2 page summary of their comments for inclusion in the official meeting record to Jennifer Moser, Designated Federal Officer, Office of Research and Development (14RD), 810 Vermont Avenue NW, Washington, DC 20420, or at Jennifer.Moser@va.gov. In the communication, writers must identify themselves and state the organization, association or person(s) they represent. Any member of the public who wishes to attend the teleconference should RSVP to Jennifer Moser at 202-510-4253 no later than close of business, April 22, 2021, at the phone number or email address noted above.

Dated: March 25, 2021.
LaTonya L. Small,
Federal Advisory Committee Management Officer.

[FR Doc. 2021-06581 Filed 3-30-21; 8:45 am]

BILLING CODE P